CONSUMER PRODUCT SAFETY COMMISSION

Agency Information Collection Activities: Proposed Collection; Comment Request; Generic Clearance for the Collection of Qualitative Feedback on Agency Service Delivery

AGENCY: U.S. Consumer Product Safety Commission.

ACTION: 30-Day notice of submission of information collection approval from the Office of Management and Budget and request for comments.

SUMMARY: As part of a Federal Government-wide effort to streamline the process to seek feedback from the public on service delivery, the U.S. Consumer Product Safety Commission (“CPSC,” “Commission,” or “we”) has submitted a Generic Information Collection Request (Generic ICR): “Generic Clearance for the Collection of Qualitative Feedback on Agency Service Delivery” to OMB for approval under the Paperwork Reduction Act (PRA) (44 U.S.C. 3501 et. seq.).

DATES: Comments must be submitted April 18, 2011.

ADDRESSES: Written comments may be faxed to the Office of Information and Regulatory Affairs, OMB, Attn: CPSC Desk Officer, FAX: 202-395-6974, or e-mailed to oira_submission@omb.eop.gov. All comments should be identified by the CPSC Docket No. CPSC [ ] and the title “Generic Clearance for the Collection of Qualitative Feedback on Agency Service Delivery.” The written comments should also be submitted to the CPSC, identified by Docket No. CPSC [ ], by any of the following methods: Submit electronic comments in the following way: Federal eRulemaking Portal: http://www.regulations.gov. Follow the instructions for submitting comments. To ensure timely processing of comments, the Commission is no longer accepting comments submitted by electronic mail (e-mail) except through http://www.regulations.gov.

Submit written submissions in the following way:

Mail/Hand delivery/Courier (for paper, disk, or CD-ROM submissions), preferably in five copies, to: Office of the Secretary, U.S. Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Linda Glatz, Division of Policy and Planning, Office of Information Technology and Technology Services, U.S. Consumer Product Safety Commission, 4330 East West Highway, Bethesda, MD 20814 telephone: 301-504-7671 or e-mail: lglatz@cpsc.gov.

SUPPLEMENTARY INFORMATION: In the Federal Register of December 22, 2010 (75 FR 80542), the Office of Management and Budget (OMB) published a notice (“OMB notice”) stating that, as part of a Federal Government-wide effort to streamline the process to seek feedback from the public on service delivery, OMB is coordinating the development of a proposed Generic Information Collection Request titled, “Generic Clearance for the Collection of Qualitative Feedback on Agency Service Delivery” for approval under the Paperwork Reduction Act (PRA) (44 U.S.C. 3501 et. seq.). The OMB notice announced that agencies (including the CPSC) intend to submit this collection to OMB for approval and also invited comments on specific aspects for the proposed information collection. The OMB notice also provided an estimated information collection burden and stated that agencies would provide more refined individual estimates of burden in subsequent notices (75 FR at 80543). The OMB notice also provided a 60-day comment period.

This notice constitutes the CPSC's refined individual estimates of the information collection burden regarding generic clearance for the collection of qualitative feedback on agency service delivery. In compliance with 44 U.S.C. 3507, we have submitted the following proposed collection of information to OMB for review and clearance.

Title: Generic Clearance for the Collection of Qualitative Feedback on Agency Service Delivery.

Abstract: The information collection activity will garner qualitative customer and stakeholder feedback in an efficient, timely manner, in accordance with the Administration's commitment to improving service delivery. By qualitative feedback, we mean information that provides useful insights on perceptions and opinions, but not statistical surveys that yield quantitative results that can be generalized to the population of study. This feedback will provide insights into customer or stakeholder perceptions, experiences and expectations; provide an early warning of issues with service; or focus attention on areas where communication, training, or changes in operations might improve delivery of products or services. These collections will allow for ongoing, collaborative and actionable communications between the CPSC and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

We received no comments in response to the 60-day notice published by OMB in the Federal Register on December 22, 2010 (75 FR 80542).

Below we provide our projected average annual estimates for the next three years: ¹

¹ The 60-day notice included the following estimate of the aggregate burden hours for this generic clearance federal-wide: Average Expected Annual Number of activities: 25,000. Average number of Respondents per Activity: 200. Annual responses: 5,000,000. Frequency of Response: Once per request. Average minutes per response: 30. Burden hours: 2,500,000.

Current Actions: New collection of information.

Type of Review: New collection.

Affected Public: Individuals and Households, Businesses and Organizations, State, Local or Tribal Government.

Average Expected Number of Activities: Eight activities including qualitative surveys, focus groups, customer satisfaction surveys and usability tests.

Annual Number of Respondents: 1,600.

Annual Responses: 1,600.

Frequency of Response: Once per request.

Average Minutes per Response: 45 minutes per response.

Annual Burden Hours: 1,200.

An agency may not conduct or sponsor, and a person is not required to respond to, a collection of information unless it displays a currently valid Office of Management and Budget control number.

Dated: March 14, 2011.
Todd A. Stevenson,
Secretary, Consumer Product Safety Commission.

[FR Doc. 2011-6442 Filed 3-17-11; 8:45 am]

BILLING CODE 6355-01-P